DEPARTMENT OF THE INTERIOR

Fish and Wildlife Service

[Docket No. FWS-R2-ES-2020-0133; FXES11130200000-212-FF02ENEH00]

Endangered and Threatened Wildlife and Plants; Initiation of 5-Year Status Reviews of 23 Species in the Southwest

AGENCY: Fish and Wildlife Service, Interior.

ACTION: Notice of initiation of reviews; request for information.

SUMMARY: We, the U.S. Fish and Wildlife Service, are conducting 5-year status reviews under the Endangered Species Act of 23 animal and plant species. A 5-year status review is based on the best scientific and commercial data available at the time of the review; therefore, we are requesting submission of any such information that has become available since the last review for the species.

DATES: To ensure consideration, we are requesting submission of new information no later than June 4, 2021. However, we will continue to accept new information about any listed species at any time.

ADDRESSES: For how to request or submit information, see Request for Information and How Do I Ask Questions or Provide Information? in the SUPPLEMENTARY INFORMATION section.

FOR FURTHER INFORMATION CONTACT: For general information, please contact Angela Anders, via phone at 505-248-7953 or via email at Angela_Anders@fws.gov (email). For information on a particular species, contact the appropriate person or office listed in the table in the SUPPLEMENTARY INFORMATION section. Individuals who are hearing impaired or speech impaired may call the Federal Relay Service at 800-877-8339 for TTY assistance.

SUPPLEMENTARY INFORMATION:

Why do we conduct a 5-year review?

Under the Endangered Species Act of 1973, as amended (ESA; 16 U.S.C. 1531 et seq.), we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Our regulations at 50 CFR 424.21 require that we publish a notice in the Federal Register announcing those species under active review. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the ESA); and

(E) Other new information, data, or corrections, including but not limited to taxonomic or nomenclatural changes, identification of erroneous information contained in the List, and improved analytical methods.

Any new information will be considered during the 5-year review and will also be useful in evaluating the ongoing recovery programs for the species.

Which species are under review?

The species in the following table are under active 5-year status review.

Common name | Scientific name | Listing status | Current range | Final listing rule (Federal Register citation and publication date) | Contact person, phone, email | Contact person's U.S. mail address
ANIMALS
Trout, Apache | Oncorhynchus apache | Threatened | Arizona (USA) | 40 FR 29863, 7/16/1975 | Jeff Humphrey, Field Supervisor, 602-242-0210 (phone) or Jeff_Humphrey@fws.gov (email) | U.S. Fish and Wildlife Service, Arizona Ecological Services Office, 9828 North 31st Avenue, #C3, Phoenix, AZ 85051-2518.
Crane, whooping | Grus americana | Endangered | Kansas, Montana, Nebraska, North Dakota, Oklahoma, South Dakota, Texas, Wisconsin (USA), and Canada | 32 FR 4001, 3/11/1967 | Peter Fasbender, Assistant Regional Director—Ecological Services, 505-248-6671 (office phone) or Peter_Fasbender@fws.gov (email) | U.S. Fish and Wildlife Service, Southwest Regional Office, P.O. Box 1306, Albuquerque, NM, 87103.
|  | Experimental population, non-essential | Alabama, Arkansas, Colorado, Florida, Georgia, Idaho, Illinois, Indiana, Iowa, Kentucky, Louisiana, Michigan, Minnesota, Missouri, North Carolina, New Mexico, Ohio, South Carolina, Tennessee, Utah, Virginia, Wisconsin, West Virginia | 58 FR 5561, 1/22/0993; 62 FR 38932, 7/21/1997; 66 FR 33903, 6/26/2001; 76 FR 6066 2/3/2011
Prairie-chicken, Attwater's greater | Tympanuchus cupido attwateri | Endangered | Texas (USA) | 32 FR 4001, 3/11/1967 | John Magera, Refuge Manager, 979-234-3021 (office phone) or John_Magera@fws.gov (email) | Attwater Prairie Chicken National Wildlife Refuge, P.O. Box 519, Eagle Lake, Texas 77434.
Amphipod, Peck's Cave Beetle [no common name] | Stygobromus (=Stygonectes) pecki Rhadine infernalis | Endangered Endangered | Texas (USA) Texas (USA) | 62 FR 66295, 12/18/1997 65 FR 81419 12/26/2000 | Adam Zerrenner, Field Supervisor, 512-490-0057 (office phone), 512-577-6594 (direct line) or Adam_Zerrenner@fws.gov (email) | U.S. Fish and Wildlife Service, Austin Ecological Services Field Office, 10711 Burnet Road, Suite 200, Austin, TX 78758.
Beetle [no common name] | Rhadine exilis | Endangered | Texas (USA) | 65 FR 81419, 12/26/2000
Beetle, Comal Springs dryopid | Stygoparnus comalensis | Endangered | Texas (USA) | 62 FR 66295, 12/18/1997
Beetle, Comal Springs riffle | Heterelmis comalensis | Endangered | Texas (USA) | 62 FR 66295, 12/18/1997
Pupfish, Comanche Springs | Cyprinodon elegans | Endangered | Texas (USA) | 32 FR 4001, 3/11/1967
Pupfish, Leon Springs | Cyprinodon bovinus | Endangered | Texas (USA) | 45 FR 54678, 8/15/1980
Salamander, Georgetown | Eurycea naufragia | Threatened | Texas (USA) | 79 FR 20107, 4/11/2014
Salamander, Jollyville Plateau | Eurycea tonkawae | Threatened | Texas (USA) | 78 FR 51278, 8/20/2013
Salamander, Salado | Eurycea chisholmensis | Threatened | Texas (USA) | 79 FR 20107, 4/11/2014
Salamander, San Marcos | Eurycea nana | Threatened | Texas (USA) | 45 FR 47355, 7/14/1980
Spider, Government Canyon Bat Cave | Neoleptoneta microps | Endangered | Texas (USA) | 65 FR 81418, 12/26/2000
Warbler (=wood), golden-cheeked | Dendroica chrysoparia | Endangered | Texas (USA), El Salvador, Guatemala, Honduras, Mexico, and Nicaragua | 55 FR 53153, 12/27/1990
Chub, Chihuahua | Gila nigrescens | Threatened | New Mexico (USA), and Mexico | 48 FR 46053, 10/11/1983 | Shawn Sartorious, Field Supervisor, 505-761-4781 or Shawn_Sartorious@fws.gov (email) | U.S. Fish and Wildlife Service, 2105 Osuna Rd. NE, Albuquerque, NM 87113-1001.
Isopod, Socorro | Thermosphaeroma thermophilus | Endangered | New Mexico (USA) | 43 FR 12690, 3/27/1978
PLANTS
Wild-buckwheat, Gypsum Cactus, Knowlton's | Eriogonum gypsophilum Pediocactus knowltonii | Threatened Endangered | New Mexico (USA) Colorado and New Mexico (USA) | 46 FR 49639, 1/19/1981 44 FR 62244, 10/29/1979 | Shawn Sartorious, Field Supervisor, 505-761-4781 or Shawn_Sartorious@fws.gov (email) | U.S. Fish and Wildlife Service, 2105 Osuna Rd. NE, Albuquerque, NM 87113-1001.
Ladies-tresses, Canelo Hills Cactus, Nichol's Turk's head | Spiranthes delitescens Echinocactus horizonthalonius var. nicholii | Endangered Endangered | Arizona (USA) Arizona (USA) | 62 FR 665, 1/6/1997 44 FR 61927, 10/26/1979 | Jeff Humphrey, Field Supervisor, 602-242-0210 (phone) or Jeff_Humphrey@fws.gov (email) | U.S. Fish and Wildlife Service, Arizona Ecological Services Office, 9828 North 31st Avenue, #C3, Phoenix, AZ 85051-2517.
Ragwort, San Francisco Peaks | Packera franciscana | Threatened | Arizona (USA) | 44 FR 61927, 10/26/1979

Request for Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A list of all completed and currently active 5-year reviews can be found at https://ecos.fws.gov/ecp/report/species-five-year-review.

Authority

This document is published under the authority of the Endangered Species Act of 1973, as amended (16 U.S.C. 1531 et seq.).

Amy L. Lueders,
Regional Director, Southwest Region, U.S. Fish and Wildlife Service.

[FR Doc. 2021-09379 Filed 5-4-21; 8:45 am]

BILLING CODE 4333-15-P